DEPARTMENT OF TRANSPORTATION

National Highway Traffic Safety Administration

[Docket No. NHTSA-2024-0052]

Agency Information Collection Activities; Notice and Request for Comment; Examining the Effectiveness of Lane Departure Warning and Lane Keep Assist Advanced Driver Assistance Systems for Improving Driver Response

AGENCY: National Highway Traffic Safety Administration (NHTSA), Department of Transportation (DOT).

ACTION: Notice and request for comments on a new information collection.

SUMMARY: NHTSA invites public comments about our intention to request approval from the Office of Management and Budget (OMB) for a new information collection. Before a Federal agency can collect certain information from the public, it must receive approval from OMB. Under procedures established by the Paperwork Reduction Act of 1995, before seeking OMB approval, Federal agencies must solicit public comment on proposed collections of information, including extensions and reinstatement of previously approved collections. This document describes a collection of information for which NHTSA intends to seek OMB approval titled “Examining the Effectiveness of Lateral Control Warnings (ADAS) for Improving Driver Response”.

DATES: Comments must be submitted on or before November 4, 2024.

ADDRESSES: You may submit comments identified by the Docket No. NHTSA-2024-0052 through any of the following methods:

• Electronic submissions: Go to the Federal eRulemaking Portal at http://www.regulations.gov. Follow the online instructions for submitting comments.

• Fax: (202) 493-2251.

• Mail or Hand Delivery: Docket Management, U.S. Department of Transportation, 1200 New Jersey Avenue SE, West Building, Room W12-140, Washington, DC 20590, between 9 a.m. and 5 p.m., Monday through Friday, except on Federal holidays. To be sure someone is there to help you, please call (202) 366-9322 before coming.

Instructions: All submissions must include the agency name and docket number for this notice. Note that all comments received will be posted without change to http://www.regulations.gov, including any personal information provided. Please see the Privacy Act heading below.

Privacy Act: Anyone is able to search the electronic form of all comments received into any of our dockets by the name of the individual submitting the comment (or signing the comment, if submitted on behalf of an association, business, labor union, etc.). You may review DOT's complete Privacy Act Statement in the Federal Register published on April 11, 2000 (65 FR 19477-78) or you may visit https://www.transportation.gov/privacy.

Docket: For access to the docket to read background documents or comments received, go to http://www.regulations.gov or the street address listed above. Follow the online instructions for accessing the dockets via internet.

FOR FURTHER INFORMATION CONTACT: Jeremiah Singer, National Highway Traffic Safety Administration, 1200 New Jersey Ave. SE, Washington, DC 20590; email jeremiah.singer@dot.gov; telephone (202) 366-7679.

SUPPLEMENTARY INFORMATION: Under the Paperwork Reduction Act of 1995 (44 U.S.C. 3501 et seq.), before an agency submits a proposed collection of information to OMB for approval, it must first publish a document in the Federal Register providing a 60-day comment period and otherwise consult with members of the public and affected agencies concerning each proposed collection of information. The OMB has promulgated regulations describing what must be included in such a document. Under OMB's regulation (at 5 CFR 1320.8(d)), an agency must ask for public comment on the following: (a) whether the proposed collection of information is necessary for the proper performance of the functions of the agency, including whether the information will have practical utility; (b) the accuracy of the agency's estimate of the burden of the proposed collection of information, including the validity of the methodology and assumptions used; (c) how to enhance the quality, utility, and clarity of the information to be collected; and (d) how to minimize the burden of the collection of information on those who are to respond, including the use of appropriate automated, electronic, mechanical, or other technological collection techniques or other forms of information technology, e.g. permitting electronic submission of responses. In compliance with these requirements, NHTSA asks for public comments on the following proposed collection of information for which the agency is seeking approval from OMB.

Title: Examining the Effectiveness of Lateral Control Warnings (ADAS) for Improving Driver Response

OMB Control Number: New

Form Number(s):

NHTSA Form 1840—Recruitment Screener

NHTSA Form 1841—Informed Consent

NHTSA Form 1842—Vision-Hearing Form

NHTSA Form 1843—Knowledge Experience Questionnaire

NHTSA Form 1844—Session 1 Post-Condition Questionnaire

NHTSA Form 1845—Session 1 Post-Session Questionnaire

NHTSA Form 1846—Session 2 Post-Route Questionnaire LDW

NHTSA Form 1847—Session 2 Post-Route Questionnaire LDW/LKA

Type of Request: New information collection

Type of Review Requested: Regular

Requested Expiration Date of Approval: 3 years from date of approval.

Summary of the Collection of Information

The National Highway Traffic Safety Administration (NHTSA) of the U.S. Department of Transportation is seeking approval to conduct 11 voluntary information collections a part of a one-time research study involving up to 80 licensed drivers of various ages for a research study to examine the effectiveness of lateral control warnings in advanced driver assistance systems (ADAS) for improving driver response. The respondents will participate in two separate driving data collection sessions. Within this study, NHTSA's contractor, the Virginia Tech Transportation Institute (VTTI), will instrument two research vehicles with data acquisition systems (DASs). These DASs include video cameras and sensors that allow for collecting continuous data that encompasses driver behavior and vehicle performance. The completion of the two drives will take place on different days. The complete data collection effort is estimated to be 808 burden hours to the study participants. Recruitment of study respondents will be from Southwest Virginia, specifically the New River Valley and surrounding areas (Roanoke, Salem, etc.). The target for the study is 50 participants; therefore, the research team will contact up to an estimated 340 potential research participants in order to identify approximately 85 respondents who will be eligible for participation and complete the informed consent process, estimating that up to 80 respondents will participate in the driving sessions. Since the research study involves driving sessions on two different days, recruitment of up to 80 respondents is needed to account for attrition and potential replacements to ensure that the research study includes 50 participants who complete both the Session 1 and Session 2 drives. Upon arriving for their first session, each enrolled participant will go through the consenting process. The consenting process will include an overview of the study, an explanation of the consent form, and an opportunity for the potential participants to ask questions and seek clarification. Following the consenting process, participants who sign up to participate will complete a brief vision and hearing evaluation, ensuring that they meet the basic vision requirements of driver's licensure in Virginia (20/40) and can hear experimenter instructions. Tracking for color blindness will also be included, as there are visual notifications throughout the study. Participants will then be asked to complete a 10-minute questionnaire related to their previous knowledge of and experience with the systems under evaluation. Thereafter, the enrolled participants will be instructed to perform a series of controlled driving tests on the Virginia Smart Roads facilities with one of the test vehicles. Each series of controlled driving tests on the Smart Roads will last about 2 hours and will be preceded by a 15-minute familiarization with the vehicle, followed by a 30-minute post-driving questionnaire and debriefing session. The drivers who complete the first session will return a different day for a second driving session in which they will be instructed to drive a prescribed route on public roads in Southwest Virginia. This second driving session will last approximately 4 hours, with a 15-minute break in between; this will be preceded by a 45-minute preparation and followed by a 30-minute post driving questionnaire and debriefing. The planned data collection activities discussed herein have been approved by Virginia Tech's Institutional Review Board.

Description of the Need for the Information and Proposed Use of the Information

NHTSA's mission is to save lives, prevent injuries, and reduce traffic-related health care and other economic costs. To further this mission, NHTSA conducts research as a foundation for the development of motor vehicle standards and traffic safety programs. Lane departure crashes, including single-vehicle run-off-road crashes, non-collision rollovers, sideswipe crashes, and head-on crashes between two vehicles traveling in opposite directions, account for a large proportion of fatal and injury crashes on U.S. roads. Lane support systems (LSS), a type of lateral-control ADAS, predominantly comprise two complementary technologies: lane departure warning (LDW) and lane keep assistance (LKA) systems. LDW detects and alerts drivers when their vehicle is about to leave the current travel lane, whereas LKA redirects the lateral movement of the vehicle to prevent it from leaving the current travel lane. Numerous studies have estimated the effect of LSS technologies on police-reported crashes, with all reviewed studies finding a positive impact. Based on the comparison of multiple prevention systems and warning-only systems, previous studies have suggested that prevention systems are more effective than warning-only systems because they do not rely on a timely and appropriate response from the driver. Crash situations typically unfold quickly; thus, by the time the driver responds to the warning, it may be too late, particularly when the driver is distracted, drowsy, or fails to notice the warning right away. Therefore, the effectiveness of warning systems largely depends on human factors. While studies have demonstrated the effectiveness of LSS at reducing the intended crash types and the potential of LSS to save countless lives with widespread use, these systems are unfortunately associated with a high “nuisance” factor resulting from false or unnecessary alerts. This inevitably leads to system deactivation, with indications that drivers turn LDW systems off as much as 50 percent of the time due to annoying alerts and overly aggressive steering corrections.1 2 Once deactivated, all potential benefits of LSS are negated. Thus, it is important to reduce false alerts to maximize driver acceptance and the likelihood that the system remains enabled, which, in turn, will reduce crashes. LSS, if properly designed, evaluated, and used, have the potential to reduce the occurrence or, at the very least mitigate the severity of, a significant number of lane-departure crashes. NHTSA needs to learn more about LSS's effectiveness, the human factors that affect LDW and LKA performance, and about the system characteristics that will favor better acceptance. This data collection has been specifically designed to evaluate key LSS-related technologies, with a particular focus on driver and system performance, as well as driver acceptance. The outcomes will provide a wide variety of stakeholders with valuable information about the optimal LSS design features to maximize the safety benefits of these systems and will inform NHTSA in the development of future motor vehicle standards and in what traffic safety programs to advance in its mission to save lives, prevent injuries and reduce health care and other economic costs due to traffic crashes on U.S. highways.

¹ Flannagan C, LeBlanc D, Bogard S, Nobukawa K, Narayanaswamy P, Leslie A, Kiefer R, Marchione M, Beck C, and Lobes K. (2016). Large-scale field test of forward collision alert and lane departure warning systems (No. DOT HS 812 247).]. https://trid.trb.org/view/1415844.

² Monticello, M. (2019). Car Safety Systems That Could Save Your Life. Consumer Reports. (https://www.consumerreports.org/automotive-technology/car-safety-systems-that-could-save-your-life/.

NHTSA will use the information collected to produce a technical report containing summary statistics and tables. No identifying information or individual responses will be reported. The technical report will be made available to a variety of audiences interested in improving highway safety through the agency website and the National Transportation Library. This collection will provide valuable information about optimal lateral control ADAS toward maximizing the safety benefits of these systems.

NHTSA was established by the Highway Safety Act of 1970 (23 U.S.C. 101). Its Congressional mandate is to reduce the number of deaths, injuries, and economic losses resulting from motor vehicle crashes on our nation's highways. To accomplish this mission, NHTSA has statutory authority to conduct crash injury research and collect relevant data in the interest of public health. Specifically, NHTSA is authorized to: (1) engage in research on all phases of highway safety and traffic conditions; (2) undertake collaborative research and development projects with non-Federal entities for the purposes of crash data collection and analysis; and (3) conduct research and collect information to determine the relationship between motor vehicles and crashes, and personal injury or deaths resulting from such crashes. This information collection supports the department's strategic goal of safety.

Subchapter V of chapter 301 of title 49 of the United States Code (U.S.C.) authorizes the Secretary of Transportation to conduct “motor vehicle safety research, development, and testing programs and activities, including activities related to new and emerging technologies that impact or may impact motor vehicle safety.” 49 U.S.C. 30182. Pursuant to section 1.95 of title 49 of the Code of Federal Regulations (CFR), the Secretary has delegated this authority to the National Highway Traffic Safety Administration (NHTSA).

Affected Public

Respondents to this collection will be members of the public recruited from Blacksburg, VA, and surrounding areas. Effort will be made to recruit equal numbers of adult males and females, including participants with different levels of experience owning or driving a vehicle with LSS. This is an experimental study that will examine the effectiveness and preferences of lateral control warnings in ADAS for improving driver response. As such, the participants in this experimental research design are not expected nor intended to be a representative sample of all drivers in the U.S. Study participants will be licensed drivers between the ages of 25 and 65.

Estimated Number of Respondents

The target for the study is for 50 participants to complete both sessions with valid data collected for each; therefore, the research team will contact up to an estimated 340 potential research participants to identify approximately 85 respondents who will be eligible for participation and will complete the informed consent process, estimating that up to 80 respondents will participate in the driving sessions. Since the research study involves driving sessions on two different days, recruitment of up to 80 respondents is needed to account for attrition and potential replacements (e.g., potential need to replace participants who drop out due to personal, health, or any other reason; scheduling conflicts and general participant availability, considering time gap between both sessions; and equipment failure resulting in data loss) to ensure that the research study includes 50 participants who complete both the Session 1 and Session 2 drives.

Frequency

This is a one-time information collection.

Estimated Total Annual Burden Hours

The total estimated burden for this one-time information collection is 808 hours total, or 269 annual burden hours (based on a 3-year period of performance). Further details are provided below.

This ICR includes 11 information collections, which are described below.

1. Screening Questionnaire

An estimated 340 potential participants will answer a Recruitment Screening Questionnaire (Form001) over the phone to determine if they qualify for the study. Participants will be screened over the phone to determine eligibility, with recruitment personnel recording responses on a paper form using an anonymized ID. Respondents are expected to take an estimated average of 15 minutes to complete the questionnaire and will complete this questionnaire once, resulting in a total of 85 burden hours (28 annual burden hours) for the screening of potential participants. Recruitment of study respondents is from Southwest Virginia, specifically the New River Valley and surrounding areas (Roanoke, Salem, etc.).

2. Session 1: Informed Consent Form

Based on an estimate that 25 percent of those who begin the screening process will be eligible and interested in participating, we anticipate an estimated 85 potential participants for the consenting process; these participants will be individually scheduled for an appointment to go to the contractor's facilities in Blacksburg, VA. The research team will select up to 80 individuals, each of whom will receive instructions to come to the VTTI facility at a particular date and time. While NHTSA estimates that 85 respondents will start the informed consent, NHTSA estimates that only 80 will complete informed consent, anticipating that either some respondents may choose not to proceed with the study or that the experimenter may determine that they should not participate (uncooperative, impaired, etc.). The visit to the VTTI facility will begin with a consenting process that includes an overview of the study, an explanation of the consent form, and an opportunity for the potential participants to ask questions and get clarification. Those individuals who consent to the study and enroll will complete the Informed Consent form and move on to the next process. This consent process and completion of the Informed Consent form are expected to take 30 minutes and will be completed only during the first session, resulting in a total of 43 burden hours (14 annual burden hours). This is a paper form, which participants are required to sign two copies of, keeping one for their records.

3. Session 1: Vision and Hearing Evaluation

Following the consenting process, the experimenter will administer a brief vision and hearing evaluation for a maximum of 80 respondents. The purpose of this evaluation is to ensure that participants meet the basic vision requirements of driver's licensure in Virginia (20/40), and to confirm that they can hear instructions provided by the experimenter when looking away. The hearing evaluation consists of repeating approximately five statements back to the experimenter. Results will be completed only during the first session and will be recorded on paper. This evaluation is expected to take 5 minutes, resulting in a total of 7 burden hours (2 annual burden hours).

4. Session 1: Knowledge and Experience Questionnaire

Following the consenting process, respondents will be asked to complete a 10-minute Knowledge and Experience Questionnaire (on paper) related to their previous knowledge of and experience with the systems under evaluation. The burden is calculated as 10 minutes per person and is to be completed once per respondent for a maximum of 80 respondents, resulting in a total of 13 burden hours (4 annual burden hours).

5. Session 1: Controlled Driving on the Smart Roads

To assess preferences regarding LDW modality and timing under dynamic scenarios, study participants will experience a series of controlled driving tests with the LDW mockup vehicle on the Smart Roads test track. Each participant will drive continuously on closed loops while experiencing modality and timing conditions (independent and in combination, where applicable) incorporated in the LDW mockup vehicle, while data are collected by the DAS. No other traffic will be present on the part of the Smart Roads in use during participant sessions. After the participant performs a few loops to become familiar with the vehicle and the test track without instructions to depart the lane, they will be instructed to gradually deviate towards one of the lines until the departure warnings are triggered. Drivers will then be instructed to carefully perform a corrective maneuver back to the center of the lane after the warning. Not including the questionnaire elements referenced below (collection instruments 6 and 7), this driving session is expected to take 100 minutes, including vehicle familiarization, drive-time, and breaks. For a maximum of 80 participants, this results in a total of 133 burden hours (44 annual burden hours). At the conclusion of this first session, participants will receive instruction to return on another day for the second session.

6. Session 1: Post-Condition Questionnaire

Before, during, and following this behind-the-wheel session, drivers will provide feedback via questionnaires administered by the experimenter. This “post-condition” questionnaire, with an estimated time to complete of 5 minutes, will be administered up to 12 times for a total time of 60 minutes per participant. Administered to up to 80 participants, this results in a total of 80 burden hours (27 annual burden hours). By experiencing variations of LDW modality and timing, participants will be better equipped to provide acceptance and preference feedback across the experienced options.

7. Session 1: Post-Session Questionnaire

Following completion of the full driving session, participants will be asked to complete a final post-drive questionnaire, capturing feedback pertaining to all conditions experienced. Administered to up to 80 participants, the estimated time to complete is 5 minutes, for a total of 7 burden hours (2 annual burden hours).

Prescribed Driving on Public Roads (Session 2)

To assess driver response to naturally occurring LDW and LKA actuations, two independent driving data collection efforts will be conducted on public roads in Southwest Virginia (the community surrounding the VTTI facility). The drivers who complete the controlled driving sessions will return to the contractor's facilities for a second session, during which they will be put into one of two groups and asked to individually drive a pre-determined (prescribed) route using one of the test vehicles, experiencing different modality, activation timing, and variation of LDW, LKA, and LDW/LKA conditions while driving as they normally would.

8. Session 2: LDW Subset

Each participant in the first group will drive a prescribed route using the LDW mockup vehicle. Each driving session will be part of a sub-study that aims to clarify the effects of the two independent LDW design variables (modality and activation timing) on driver performance safety indicators (e.g., frequency of lateral excursions and unintended departure events, and the magnitudes of these events). The sub-study will be conducted as a 2×3 factorial design with three LDW modalities and two LDW timing activation levels (for a total of six combinations). The LDW activation timing levels will be defined according to a previously conducted market assessment and vehicle characterization. At the halfway point, a member of the research team will switch the modality/timing combination. A remote experimenter tool will allow the experimenter to monitor the session and allow interfacing with the DAS. The total driving session duration for each participant will be approximately 4 hours, split into two sub-sessions. With orientation to the research vehicle and prescribed route, along with a 15-minute break at the halfway point, the total estimated time to complete this driving session is approximately 5 hours and 10 minutes. For up to 48 participants, this equates to a total of 248 burden hours (83 annual burden hours).

9. Session 2: LDW Subset—Post-Route Questionnaire

At the halfway point, participants will complete the “post-route” questionnaire, which is estimated to take 10 minutes. They will complete this same questionnaire a second time after completing their second drive. For up to 48 participants, this equates to a total of 16 burden hours (5 annual burden hours).

10. Session 2: LDW/LKA Subset

Each participant from the second group will complete the same prescribed drive but using the LDW/LKA factory vehicle rather than the LDW mockup vehicle. This experiment will address objective driver performance and subjective qualitative preferences under four system activation modes (none, LDW only, LKA only, and LDW with LKA). At the halfway point, a member of the research team will switch the modality/timing combination. A remote experimenter tool will allow the experimenter to monitor the session and allow interfacing with the DAS. The total driving session duration for each participant will be approximately 4 hours, split into two sub-sessions. Including orientation to the research vehicle and prescribed route, along with a 15-minute break at the halfway point, the total estimated time to complete this driving session is approximately 5 hours and 10 minutes. For up to 32 participants, this equates to a total of 165 burden hours (55 annual burden hours).

11. Session 2: LDW/LKA Subset—Post-Route Questionnaire

At the halfway point, participants will complete the “post-route” questionnaire, which is estimated to take 10 minutes. They will complete this same questionnaire a second time after completing their second drive. For up to 32 participants, this equates to a total of 11 burden hours (4 annual burden hours).

Annual burden hours were estimated by first dividing the total number of respondents per information collection by three and then rounding to the nearest whole number. Based on the estimates of 113 annual respondents for the screener questionnaire, 28 annual respondents for the informed consent, 27 annual respondents to each of the Session 1 information collections, 16 annual respondents to each of the Session 2 LDW Subset information collections, and 11 annual respondents to each of the Session 2 LDW/LKA Subset information collections, NHTSA has estimated that the annual burden for the collections is 269 hours. The total estimated burden for this one-time information collection is 808 hours.

To calculate the opportunity cost to participants in this study, NHTSA used the average (mean) hourly earnings from employers in all industry sectors in the State of Virginia, which the Bureau of Labor Statistics lists at $34.91.³ This rate, rounded up to $35 per hour, was used for calculating burden cost. Each of the Information Collection Components will be completed for the duration specified in Table 1. These costs are calculated as opportunity costs rather than labor costs, as these respondents are not participating as part of employment time with additional benefits associated. NHTSA estimated the opportunity cost for each form (and associated study activities) and arrived at a total opportunity cost of $28,263 based on a total of 808 hours. An annual opportunity cost of $9,421 and 269 hours was calculated by dividing the total opportunity cost estimates by three.

³ May 2024, Employment and Earnings Summary Table B, Hours and Earnings All Employees, Total Private Average Hourly Earnings, available https://www.bls.gov/web/empsit/ceseesummary.htm (accessed June 24, 2024).

This ICR includes 11 information collections, which are described below. Total burden estimates for each information collection are provided in Table 1 and annual burden estimates for each information collection are provided in Table 2. Rounding is applied in the tables, where appropriate.

Table 1—Total 3-Year Burden Estimates by Information Collection
Information collection component | Number of study participants | Number of times completed | Time to complete (minutes) | Total time per participant (minutes) | Estimated total time burden (hours) | Estimated total cost burden ($)
Screening questionnaire (Form 001) | 340 | 1 | 15 | 15 | 85 | 2,975.00
Informed Consent (Form 002) | 85 | 1 | 30 | 30 | 43 | 1,487.50
Vision/Hearing evaluation (Form 003) | 80 | 1 | 5 | 5 | 7 | 233.33
Knowledge/Experience questionnaire (Form 004) | 80 | 1 | 10 | 10 | 13 | 466.67
Session 1: Controlled driving on the Smart Roads (orientation, drive-time, break) | 80 | 1 | 100 | 100 | 133 | 4,666.67
Session 1: Post-Condition Questionnaire (Form 005) | 80 | 12 | 5 | 60 | 80 | 2,800.00
Session 1: Post-Session Questionnaire (Form 006) | 80 | 1 | 5 | 5 | 7 | 233.33
Session 2 (LDW subset): Prescribed driving on public roads (orientation, drive-time, break) | 48 | 1 | 310 | 310 | 248 | 8,680.00
Session 2 (LDW subset): Post-Route Questionnaire (Form 007) | 48 | 2 | 10 | 20 | 16 | 560.00
Session 2 (LDW/LKA subset): Prescribed driving on public roads (orientation, drive-time, break) | 32 | 1 | 310 | 310 | 165 | 5,786.67
Session 2 (LDW/LKA subset): Post-Route Questionnaire (Form 008) | 32 | 2 | 10 | 20 | 11 | 373.33
Total | 80 |  |  |  | 808 | 28,262.50

Table 2 summarizes the annual burden estimates.

Table 2—Annual Burden Estimates by Information Collection
Information collection component | Number of study participants | Number of times completed | Time to complete (minutes) | Total time per participant (minutes) | Estimated total annual time burden (hours) | Estimated total cost annual burden ($)
Screening questionnaire (Form 001) | 113 | 1 | 15 | 15 | 28 | 991.67
Informed Consent (Form 002) | 28 | 1 | 30 | 30 | 14 | 495.83
Vision/Hearing evaluation (Form 003) | 27 | 1 | 5 | 5 | 2 | 77.78
Knowledge/Experience questionnaire (Form 004) | 27 | 1 | 10 | 10 | 4 | 155.56
Session 1: Controlled driving on the Smart Roads (orientation, drive-time, break) | 27 | 1 | 100 | 100 | 44 | 1,555.56
Session 1: Post-Condition Questionnaire (Form 005) | 27 | 12 | 5 | 60 | 27 | 933.33
Session 1: Post-Session Questionnaire (Form 006) | 27 | 1 | 5 | 5 | 2 | 77.78
Session 2 (LDW subset): Prescribed driving on public roads (orientation, drive-time, break) | 16 | 1 | 310 | 310 | 83 | 2,893.33
Session 2 (LDW subset): Post-Route Questionnaire (Form 007) | 16 | 2 | 10 | 20 | 5 | 186.67
Session 2 (LDW/LKA subset): Prescribed driving on public roads (orientation, drive-time, break) | 11 | 1 | 310 | 310 | 55 | 1,928.89
Session 2 (LDW/LKA subset): Post-Route Questionnaire (Form 008) | 11 | 2 | 10 | 20 | 4 | 124.44
Total | 27 |  |  |  | 269 | 9,420.83

Estimated Total Annual Burden Cost: $3,216

The only cost burdens respondents will incur are costs related to travel to and from the research location. The costs are minimal and are expected to be offset by the compensation that will be provided to the research participants. NHTSA estimates that, on average, each of the participants will travel less than 15 miles one-way to the research location (30 miles round trip), for a total of 60 miles for the two study drive days. Using the IRS standard mileage rate of $0.67 per mile,⁴ each respondent is expected to incur no more than $40.20 in transportation costs. Therefore, NHTSA estimates that the total costs to respondents will be no more than $3,216.

⁴ From Internal Revenue Service's 2024 standard mileage rates for self-employed and business. https://www.irs.gov/tax-professionals/standard-mileage-rates, last accessed April 26, 2024.

Public Comments Invited: You are asked to comment on any aspects of this information collection, including (a) whether the proposed collection of information is necessary for the proper performance of the functions of the Department, including whether the information will have practical utility; (b) the accuracy of the Department's estimate of the burden of the proposed information collection; (c) ways to enhance the quality, utility and clarity of the information to be collected; and (d) ways to minimize the burden of the collection of information on respondents, including the use of automated collection techniques or other forms of information technology.

Authority: The Paperwork Reduction Act of 1995; 44 U.S.C. chapter 35, as amended; 49 CFR 1.49; and DOT Order 1351.29A.

Cem Hatipoglu,
Associate Administrator, Office of Vehicle Safety Research.

[FR Doc. 2024-19625 Filed 8-30-24; 8:45 am]

BILLING CODE 4910-59-P